DEPARTMENT OF THE INTERIOR

Bureau of Reclamation

Notice of Availability of the Final Environmental Impact Statement/Environmental Impact Report (EIS/EIR) for the Nimbus Hatchery Fish Passage Project, Lower American River, California

AGENCY: Bureau of Reclamation, Interior.

ACTION: Notice of availability.

SUMMARY: The Bureau of Reclamation (Reclamation), the lead Federal agency, and the California Department of Fish and Game (CDFG), the lead State agency, have prepared a joint Final EIS/EIR for the proposed Nimbus Fish Hatchery Weir Replacement Project (Project). The purpose of the Project is to create and maintain a reliable system of collecting adult fish for use in the Nimbus Fish Hatchery (Hatchery).

DATES: Reclamation will not make a decision on the proposed action until at least 30 days after release of the Final EIS/EIR. After the 30-day waiting period, Reclamation will complete a Record of Decision (ROD). The ROD will state the action that will be implemented and discuss all the factors that led to the decision.

The CDFG will advance its recommendations to the California Fish and Game Commission (Commission) for consideration. The Commission will hold additional hearings on the recommendations and a Notice of Determination will be filed after the hearings. This action will trigger a 30-day review period under California Environmental Quality Act.

ADDRESSES: Copies of the Final EIS/EIR may be requested from Ms. Janet Sierzputowski at 916-978-5112, TTY 916-978-5608, or e-mail jsierzputowski@usbr.gov.

The Final EIS/EIR is also accessible from the following Web site: http://www.usbr.gov/mp/nepa/nepa_projdetails.cfm?Project_ID=5216 or http://www.usbr.gov/mp/ccao/hatchery/index.html.

See the SUPPLEMENTARY INFORMATION section for locations where copies of the Final EIS/EIR are available for public review.

FOR FURTHER INFORMATION CONTACT: Mr. David Robinson, Central California Area Office (CCAO), Bureau of Reclamation, at the CCAO general telephone number 916-988-1707, e-mail: HatchPass@usbr.gov.

SUPPLEMENTARY INFORMATION: The Nimbus Hatchery is located along the lower American River approximately ¼ mile downstream from Nimbus Dam in Rancho Cordova, CA. The Hatchery is a mitigation facility that was constructed by Reclamation in 1955 to compensate for the loss of spawning habitat for Chinook salmon and steelhead trout inundated by the construction of Nimbus Dam. The Hatchery annually produces about 4 million fall-run Chinook salmon smolts and 430,000 winter-run American River steelhead yearlings. A fish weir is currently used to prevent adult salmon from continuing upstream and allows them to locate and enter the fish ladder and hatchery.

The Project is needed because the existing weir is aging, susceptible to periodic significant damage from high flows, and its operation requires annual flow reductions to perform maintenance which affect protected steelhead populations in the river. Annual short-term flow reductions when steelheads are rearing in the lower American River are required to install the weir. Flow reductions of longer duration are periodically required to repair significant flood damage to the existing structure and scouring around its foundation. This scouring is harmful because it destabilizes the weir and creates large holes that upstream migrant fish can pass through and therefore fail to enter into the hatchery ladder.

The primary objective of the Project is to maintain a fully functional system of collecting adult fish sufficient to meet mitigation goals. Secondary objectives are to minimize operation and maintenance costs, avoid reducing river flows, and improve safety. Reclamation has evaluated a broad set of potential solutions in a series of planning evaluations beginning in the mid-1990s. Two approaches to solving the problems that were advanced through the planning process are: (1) Constructing a new fish diversion weir with a concrete foundation and air bladder control gates and pickets; and (2) extending the fish ladder upstream to Nimbus Dam and removing the existing fish diversion weir. The EIS/EIR evaluates each of these alternative approaches and a no action alternative.

CDFG has continuously operated and maintained the Hatchery under contract with Reclamation since it was originally constructed in 1955. CDFG operates and maintains all salmon and steelhead hatcheries within the State of California and is responsible for the management of statewide fisheries resources. As manager of the State fisheries resources, CDFG is also responsible for recommending and implementing fishing regulations. One alternative under consideration would result in changes to the fishing opportunities immediately downstream from Nimbus Dam pursuant to CDFG Regulation Section 2.35, “Taking Fish near Dams, Screens, and Egg-taking Stations,” and likely would result in significant impacts to the Chinook salmon population. CDFG is also considering modification to the seasonal fishing regulations between the Hatchery and Nimbus Dam as part of the evaluation of this alternative.

A Notice of Availability of the Draft EIS/EIR and a schedule for public meetings was published in the Federal Register on October 01, 2010 (75 FR 60804). The formal comment period on the Draft EIS/EIR ended on November 30, 2010. The Final EIS/EIR contains responses to all comments received and reflects comments and any additional information received during the review period.

Copies of the Final EIS/EIR are available for public review at the following locations:

• Bureau of Reclamation, Denver Office Library, Building 67, Room 167, Denver Federal Center, 6th and Kipling, Denver, CO 80225.

• Natural Resources Library, Department of the Interior, 1849 C Street, NW., Main Interior Building, Washington, DC 20240-0001.

• Bureau of Reclamation, Mid-Pacific Region, Regional Library, 2800 Cottage Way, Sacramento, CA 95825.

• Central California Area Office, Bureau of Reclamation, 7794 Folsom Dam Road, Folsom, CA 95630.

• Nimbus Fish Hatchery, 2001 Nimbus Road, Gold River, CA 95670.

Dated: July 25, 2011.
Pablo R. Arroyave,
Deputy Regional Director, Mid-Pacific Region.

[FR Doc. 2011-20393 Filed 8-10-11; 8:45 am]

BILLING CODE 4310-MN-P